DEPARTMENT OF COMMERCE

National Oceanic and Atmospheric Administration

Review of Nomination for Chumash Heritage National Marine Sanctuary

AGENCY: Office of National Marine Sanctuaries (ONMS), National Ocean Service (NOS), National Oceanic and Atmospheric Administration (NOAA), Department of Commerce (DOC).

ACTION: Notice; Request for Written Comments.

SUMMARY: The Office of National Marine Sanctuaries (ONMS) of the National Oceanic and Atmospheric Administration (NOAA) is requesting written comments to facilitate ONMS review of the nomination for Chumash Heritage National Marine Sanctuary (CHNMS). NOAA is requesting relevant information as it pertains to the 11 national significance criteria and management considerations that NOAA applied to evaluate the CHNMS nomination for inclusion in the national inventory of areas that NOAA may consider for future designation as a national marine sanctuary. Particular attention will be given to new scientific information about the national significance of natural and cultural resources, as well as increases or decreases in the threats to resources originally proposed for protection, and changes to the management framework of the area. NOAA will also assess the level of community-based support for the nomination from a broad range of interests. NOAA has provided the original nominating party, the Northern Chumash Tribal Council, an opportunity to share its views on these same questions. Subsequent to the information gathering and internal analysis, the ONMS Director will make a final determination on whether or not the CHNMS nomination will remain in the inventory prior to the five-year anniversary of accepting the nomination, October 5, 2020.

DATES: NOAA will conduct a virtual meeting to explain the review process to the public and accept information orally from speakers during the virtual meeting. The meeting will be conducted on Wednesday May 27, 2020 at 6:00 p.m. PT. For more information regarding how to participate in the public meeting and the CHNMS nomination go to https://nominate.noaa.gov. Written comments must be received by June 15, 2020.

ADDRESSES: Comments may be submitted by the following method:

Federal eRulemaking Portal: https://www.regulations.gov. Submit electronic comments via the Federal eRulemaking Portal with Docket Number NOAA-NOS-2020-0063.

Instructions: All comments received are a part of the public record. All personal identifying information (for example, name, address, etc.) voluntarily submitted by the commenter may be publicly accessible. Do not submit confidential business information or otherwise sensitive or protected information. NOAA will accept anonymous comments (enter N/A in the required fields to remain anonymous).

FOR FURTHER INFORMATION CONTACT: William Douros Regional Director, ONMS West Coast Region, 99 Pacific Street, Bldg. 100F, Monterey, CA 93940, or at william.douros@noaa.gov, or 831-647-6452.

SUPPLEMENTARY INFORMATION:

Background Information

In 2014, NOAA issued a final rule establishing the sanctuary nomination process (SNP), a process by which communities may submit nominations of areas of the marine and Great Lakes environment for NOAA to consider for designation as a national marine sanctuary (79 FR 33851). The final rule establishing the SNP included a five-year limit on any nomination added to the inventory that NOAA does not advance for designation. In November 2019, NOAA issued a notice (84 FR 61546) to clarify procedures for evaluating and updating a nomination as it approaches the five-year mark. The clarified procedure ensures the inventory contains nominations that remain relevant and responsive to the 11 SNP national significance criteria and management considerations (“SNP Criteria”). The 11 SNP Criteria can be found at https://nominate.noaa.gov.

The nomination for CHNMS was accepted to the national inventory on October 5, 2015, and is therefore scheduled to expire in October 2020. NOAA is not proposing to designate CHNMS or any other any new national marine sanctuary with this action. Accordingly, written comments submitted as part of this request should not focus on whether NOAA should initiate the designation process for CHNMS. Rather comments should address the relevance of the nomination towards the SNP Criteria and any new information NOAA should consider about the nominated area. Comments that do not address the SNP Criteria and new information NOAA should evaluate will not be considered in determining whether to extend the CHNMS nomination for another five years.

The process to update a nomination about to expire at the five-year mark includes the following steps:

1. ONMS notifies the nominating party at about the four and a half-year mark to give the nominating party an opportunity to provide updates of the nominated area's relevance to the SNP Criteria.

2. ONMS staff works with partners and the public to gather information on the nomination's relevance to the SNP Criteria. Given our inability to host public gatherings at this time, NOAA has chosen to host a virtual public meeting and request written comments to gather new information on the CHNMS nomination.

3. ONMS staff reviews information received from the original nominating party, partners, the public and other relevant sources against the SNP Criteria to assess if the nomination is still accurate and relevant.

4. ONMS staff produce a brief synopsis report to the ONMS Director, presenting an analysis of information that has been collected, and a recommendation regarding maintaining the nomination in the inventory, or removing it once the five-year anniversary is reached.

Whether removing or maintaining the nomination for CHNMS, NOAA would follow the same procedure for notifying the public as was followed when the nomination was submitted, including a letter to the nominator, a notice in the Federal Register, and posting information on “nominate.noaa.gov”.

Authority: 16 U.S.C. 1431 et seq.

John Armor,
Director, Office of National Marine Sanctuaries, National Ocean Service, National Oceanic and Atmospheric Administration.

[FR Doc. 2020-09109 Filed 5-1-20; 8:45 am]

BILLING CODE 3510-NK-P